DEPARTMENT OF COMMERCE

National Oceanic and Atmospheric Administration

RIN 0648-XA675

Mid-Atlantic Fishery Management Council (MAFMC); Public Meetings

AGENCY: National Marine Fisheries Service (NMFS), National Oceanic and Atmospheric Administration (NOAA), Commerce

ACTION: Notice of public meetings.

SUMMARY: The Scientific and Statistical Committee (SSC) and the Spiny Dogfish Monitoring Committee of the Mid-Atlantic Fishery Management Council (Council) will hold meetings.

DATES: The SSC will meet Wednesday, September 21, 2011 at 1 p.m. until 5 p.m. and Thursday, September 22 from 8 a.m. until 5 p.m. The Spiny Dogfish Monitoring Committee will meet Thursday, September 22, 2011 from 9 a.m. until 4 p.m.

ADDRESSES: The meeting will be held at the Admiral Fell Inn, 888 South Broadway, Baltimore, MD 21231 telephone: (410) 522-7377.

Council address: Mid-Atlantic Fishery Management Council, 800 N. State Street, Suite 201, Dover, DE 19901; telephone: (302) 674-2331.

FOR FURTHER INFORMATION CONTACT: Christopher M. Moore PhD, Executive Director, Mid-Atlantic Fishery Management Council, 800 N. State Street, Suite 201, Dover, DE 19901; telephone: (302) 526-5255.

SUPPLEMENTARY INFORMATION: The primary purpose of the SSC meeting includes ABC recommendations for spiny dogfish; special session for social/economics issues; review MAFMC five-year research plan progress report on Management Strategy Evaluation study; and Ecosystem Subcommittee report and discuss development of Programmatic Environmental Assessment for future ecosystem based fishery management activities by the Mid-Atlantic Council. The purpose of the Spiny Dogfish Monitoring Committee will be to discuss quota recommendations and associated management measures for spiny dogfish for fishing years 2012-2015.

Special Accommodations

The meeting is physically accessible to people with disabilities. Requests for sign language interpretation or other auxiliary aids should be directed to M. Jan Saunders at the Mid-Atlantic Council Office, (302) 526-5251, at least 5 days prior to the meeting date.

Dated: August 29, 2011.
Tracey L. Thompson,
Acting Director, Office of Sustainable Fisheries, National Marine Fisheries Service.

[FR Doc. 2011-22446 Filed 9-1-11; 8:45 am]

BILLING CODE 3510-22-P